DEPARTMENT OF THE INTERIOR

Bureau of Indian Affairs

Information Collection for Native Employment Training Grant (NET Grant) Program; Comment Request

AGENCY: Bureau of Indian Affairs, Interior.

ACTION: Notice of Proposed Information Collection.

SUMMARY: In compliance with the Paperwork Reduction Act of 1995, the Office of Indian Energy and Economic Development (IEED) is seeking comments on a proposed information collection related to grants to fund tribal job placement and training programs. Federally recognized Indian tribes and Alaska federally recognized tribal entities may apply for the funding by providing certain information. All federally recognized tribes and Alaska federally recognized tribal entities are eligible for these grants, including those that do not participate in the Public Law 102-477 Workforce Development Program. Grants shall only be disbursed on a tribe-by-tribe basis and will be unavailable for training programs that are national or regional in scope absent submission of a duly-enacted tribal resolution from the governing body of each participating federally recognized tribe or Alaska federally recognized tribal entity. Timely-submitted applications will be competed, juried, and evaluated based on their potential to provide tribal members or Alaskan Natives with sustainable employment on or near Native communities.

Applicants receiving funding must provide quarterly and final reports summarizing the progress of its Native Employment Training (NET Grant) program, including the number of tribal members trained, the identities and locations of employers from whom they have obtained jobs, and the direct assistance and case management services which have facilitated employment placement for training graduates. This notice requests comments on the information collection associated with the application and final report.

DATES: Interested persons are invited to submit comments on or before February 27, 2012.

ADDRESSES: You may submit comments on the information collection to James West, Department of the Interior, Office of Indian Energy and Economic Development, Room 20—South Interior Building, 1951 Constitution Avenue NW., Washington, DC 20245, fax (202) 208-6310; email: JimR.West@bia.gov.

FOR FURTHER INFORMATION CONTACT: You may request further information or obtain copies of the information collection request submission from James West, Department of the Interior, Office of Indian Energy and Economic Development. Telephone (202) 208-6310.

SUPPLEMENTARY INFORMATION:

I. Abstract

The IEED established the Native Employment Training Grant program (NET Grant) Program to fund on a competitive basis federally recognized American Indian tribes and Alaska federally recognized tribal entities to retain labor and union organizations, private consulting firms, non-academic/non-profit entities, or others to conduct job development assistance programs. These programs will empower American Indian tribes and Alaska federally recognized tribal entities to reduce joblessness and improve the quality of life in their communities by providing: Job and skills training combined with intensive case management and supportive services; job start up and placement services; and, sustained support for the first year of employment for unemployed and underemployed tribal members and Alaskan Natives.

The Native Employment Training Grant (NET Grant) program will serve tribal members and Alaskan Natives seeking to acquire or upgrade their job skills in order to obtain employment or find more sustainable work. Grants may encompass terms of up to three years and include various kinds of workforce development related assistance, including but not limited to participant supportive services such as transportation assistance, provision of clothing, and fulfillment of job-start-up needs such as obtaining a drivers license, drug testing, physicals, etc.

Grants may also fund the purchase, lease, or rentals of job training sites. All federally recognized tribes and Alaska federally recognized tribal entities are eligible for these grants, including tribes and Alaska federally recognized tribal entities that do not participate in the Public Law 102-477 Workforce Development Program. Grants shall be unavailable for training programs that are national or regional in scope absent submission of a duly-enacted tribal resolution by each participating federally recognized tribe or Alaska federally recognized entity.

This is an annual program whose primary objective is to create jobs and foster economic activity within tribal communities. When funding is available, IEED will solicit proposals for grants. To receive these funds, tribes may use the contracting mechanism established by Public Law 93-638, the Indian Self-Determination Act or may obtain adjustments to their funding from the Office of Self-Governance. See 25 U.S.C. 450 et seq.

Applicants Must Submit

• A duly-enacted, signed resolution of the governing body of each tribe or Alaska federally recognized tribal entity participating in the project.

• A Statement of Work identifying the entity the applicant seeks to retain to conduct training and case management services; the entity's qualifications for conducting such training and a record of its past performance; the training project's planned activities and deliverable products; the number of jobs expected to be filled by the training program's graduates; the identities and locations of those expected to employ them; the number of Native Americans who will be trained; whether potential trainees will be drug tested or screened in other ways prior to their acceptance into the training program; and, the kinds of direct assistance and case management services that will be offered to graduates of training programs to place them into jobs and enable them to retain those jobs.

• A budget indicating the funding amount requested and how, with particularity, it will be spent. The IEED expressly retains the authority to reduce or otherwise modify proposed budgets and funding amounts.

Timely-submitted applications will be competed, juried, and evaluated based on their potential to provide sustainable employment for tribal members or Alaskan Natives on or near Native communities. Selection criteria will also include the training entity's professional credentials, its record of past performance, and its ability and willingness to offer direct assistance and case management services both before and after training has been completed.

II. Request for Comments

The IEED requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and, (d) ways we could minimize the burden of the collection of the information on the respondents, such as through the use of automated collection techniques or other forms of information technology.

Please note that an agency may not sponsor or conduct, and an individual need not respond to, a collection of information unless it has a valid OMB Control Number. It is our policy to make all comments available to the public for review at the location listed in the ADDRESSES section during the hours of 9 a.m.-5 p.m., Eastern Time, Monday through Friday except for legal holidays. Before including your address, phone number, email address or other personally identifiable information, be advised that your entire comment—including your personally identifiable information—may be made public at any time. While you may request that we withhold your personally identifiable information, we cannot guarantee that we will be able to do so.

III. Data

OMB Control Number: 1076-0XXX.

Type of Review: New.

Title: Native Employment Training Grant (NET Grant) Program.

Brief Description of Collection: Indian tribes and Alaska federal recognized tribal entities that wish to apply for the Native Employment Training Grant (NET) Program must submit an application that includes certain information. A complete application must contain:

• A duly-enacted, signed resolution of the governing body of each tribe or Alaska federally recognized tribal entity participating in the project;

• A Statement of Work identifying the training project's planned activities and deliverable products; the number of jobs expected to be filled by training program graduates; the identities and locations of those expected to employ them; the number of Native Americans who will be trained; whether potential trainees will be drug tested or screened in other ways prior to their acceptance into a training program; and the kinds of direct assistance and case management services that will be offered to graduates of training programs to enable them to be placed into sustainable jobs;

• The identity of the labor and union organization, private consultant, non-profit/non-academic entity, or other entity the tribe has chosen to perform skill development training; and,

• A detailed budget estimate, including contracted personnel costs; travel estimates; data collection and analysis costs; costs of purchasing; renting or leasing equipment, clothing, and training sites; and, other expenses. The IEED reserves the authority to reduce or otherwise modify this budget.

The IEED requires this information to ensure that the Native Employment Training Grant (NET Grant) program only funds projects likely to train and place into employment tribal members and members of federally recognized Alaska tribal entities on or near a Native community. Upon completion of the funded project, the grantee must submit a final report summarizing events, accomplishments, results, and obstacles in executing the project. The IEED estimates that approximately 40 tribes will submit at least one application each year, and that IEED will accept approximately all 40 into the program annually.

Respondents: All federally recognized tribes and Alaska federally recognized tribal entities.

Number of Respondents: 80 applicants per year; 46 project participants each year.

Estimated Time per Response: 40 hours per application; 1.5 hours report.

Frequency of Response: Once per year for applications and final report.

Total Annual Burden to Respondents: 3,269 hours (3,200 for applications and 69 for final reports).

Dated: December 21, 2011.
Alvin Foster,
Assistant Director for Information Resources.

[FR Doc. 2011-33221 Filed 12-27-11; 8:45 am]

BILLING CODE 4310-4J-P